DEPARTMENT OF HOUSING AND URBAN DEVELOPMENT

[Docket No. FR-5428-N-01]

Public Housing Assessment System (PHAS): Asset Management Transition Year 2 Extension

AGENCY: Office of the Assistant Secretary for Public and Indian Housing, HUD.

ACTION: Notice.

SUMMARY: This notice provides information regarding scoring and submission requirements for public housing agencies (PHAs) under the Public Housing Assessment System (PHAS). This notice extends the Federal Register notice, Public Housing Assessment System (PHAS): Asset Management Transition Year 2 Information (75 FR 1632), dated January 12, 2010, for PHAs with fiscal years ending (FYEs) June 30, 2010, and September 30, 2010.

FOR FURTHER INFORMATION CONTACT: The Office of Public and Indian Housing, Real Estate Assessment Center (REAC), Attention: Cheryl Teninga, Department of Housing and Urban Development, 550 12th Street, SW., Suite 100, Washington, DC 20410; telephone number (REAC Technical Assistance Center) 888-245-4860 (this is a toll-free number). Persons with hearing or speech impairments may access this number through TTY by calling the toll-free Federal Information Relay Service at 800-877-8339.

SUPPLEMENTARY INFORMATION:

I. Background

A. PHAS Scoring During Transition Year 1

On August 21, 2008, HUD published Federal Register notice (FR-5227-N-01), “Public Housing Assessment System (PHAS): Asset Management Transition Year Information and Uniform Financial Reporting Standards (UFRS) Information” (73 FR 49588). In that notice, HUD indicated that, for PHAs with FYEs of June 30, 2008, through March 31, 2009, HUD would not issue a new overall PHAS score. Further, PHAs were not required to submit their management operations information and were not subject to resident satisfaction surveys (other than PHAs with a FYE of June 30, 2008, for whom the survey results were informational only). PHAs were still required to submit their annual financial statements (not scored) and were subject to the same inspection frequencies, the scores from which were also for informational purposes only.

B. PHAS Scoring During Transition Year 2

The Transition Year 2 notice (75 FR 1632, January 12, 2010) covers those PHAs with FYEs of June 30, 2009, September 30, 2009, December 31, 2009, and March 31, 2010. This notice also applies to Moving-to-Work PHAs that are not specifically exempted from a PHAS assessment in their grant agreements.

Small PHAs (those with fewer than 250 public housing units): Under the current PHAS rule, small PHAs are generally assessed every other year. During Transition Year 2, small PHAs are being assessed pursuant to 24 CFR 902.9.

Instructions for submissions and scoring were provided for the physical condition, financial condition, management operations, and resident assessment indicators.

C. Transition Year 2 Extension

This notice provides for an extension of the Transition Year 2 notice for PHAs with FYEs of June 30, 2010, and September 30, 2010. In addition to the information provided in the Transition Year 2 notice, the following applies to this extension notice.

Management Operations Indicator. PHAs will be required to submit their management operations certification, pursuant to 24 CFR part 902, subpart D. Small PHAs will be assessed pursuant to 24 CFR 902.9.

PHAs with FYEs of June 30, 2009, and September 30, 2009, that requested and received an approved waiver for their management operations certification may request an extension of that waiver for FYEs June 30, 2010, and September 30, 2010. HUD will notify those PHAs in writing of the waiver extension.

PHAs with FYEs of June 30, 2010, and September 30, 2010, that did not submit a waiver request for their previous FYE and are converting to asset management, and for which the submission of the current management operations certification would impose an administrative hardship, may request a waiver for their management operations certification pursuant to 24 CFR 5.110, within 30 days from the date of this notice.

Resident Assessment Indicator. HUD will not administer the resident service and satisfaction survey for PHAs with FYEs of June 30, 2010, and September 30, 2010. Such PHAs have the same choices stated in the Transition Year 2 notice.

PHAs with FYEs of June 30, 2009, and September 30, 2009, that requested and were granted an appeal for the resident assessment indicator may request an extension of the results of that appeal. HUD will notify those PHAs in writing of the extension of the results of the appeal.

All other aspects of the current PHAS rule will remain in effect during the Transition Year 2 Extension period.

II. Environmental Review

This notice provides operating instructions and procedures in connection with activities under a Federal Register document that has previously been subject to a required environmental review. Accordingly, under 24 CFR 50.19(c)(4), this notice is categorically excluded from environmental review under the National Environmental Policy Act of 1969 (42 U.S.C. 4321 et seq.).

Dated: July 20, 2010.
Sandra B. Henriquez,
Assistant Secretary for Public and Indian Housing.

[FR Doc. 2010-18126 Filed 7-22-10; 8:45 am]

BILLING CODE 4210-67-P